FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011772.

Title: NMCC/HUAL Space Charter Agreement.

Parties: HUAL A/S Nissan Motor Car Carrier Co., Ltd.

Synopsis: The proposed agreement would allow the parties to charter space to and from each other and coordinate sailings for the carriage of motor vehicles, parts and accessories, and other merchandise in the trade from Japan and Korea to U.S. ports.

Agreement No.: 201043-002.

Title: Oakland-FESCO Terminal Service Agreement.

Parties: Port of Oakland, FESCO Ocean Management, Ltd., d/b/a FESCO Australia North America Line.

Synopsis: The amendment suspends the agreement for the period during which FESCO uses other berths at the port as a secondary user.

Agreement No.: 201105-001.

Title: Terminal Use Agreement Between the Port of Oakland and China Shipping Container Lines.

Parties: Port of Oakland, China Shipping Container Lines.

Synopsis: The amendment exercises the renewal option of the agreement, extending it through May 31, 2003.

Agreement No.: 201124.

Title: Oakland/Yang Ming Terminal Use Agreement.

Parties: Port of Oakland, Yang Ming Marine Transport Corporation.

Synopsis: The proposed agreement provides for the non-exclusive use of portions of the Ben E. Nutter Container Terminal. The agreement runs through June 1, 2006.

By Order of the Federal Maritime Commission.
Dated: July 27, 2001.
Theodore A. Zook,
Assistant Secretary.

[FR Doc. 01-19214 Filed 7-31-01; 8:45 am]

BILLING CODE 6730-01-P